DEPARTMENT OF THE INTERIOR

National Park Service

Meeting of the Paterson Great Falls National Historical Park Advisory Commission

AGENCY: National Park Service, Interior.

ACTION: Notice of meeting.

SUMMARY: In accordance with the Federal Advisory Committee Act (Pub. L. 92-463, 86 Stat. 770, 5 U.S.C. App 1,10), notice is hereby given of the meeting of the Paterson Great Falls National Historical Park Advisory Commission.

DATES: The Commission will meet on Tuesday, October 26, 2010 at 9 a.m. until 5 p.m.

ADDRESSES: This meeting will be held at the Paterson Museum at 2 Market Street (intersection of Spruce Street) in Paterson, New Jersey.

FOR FURTHER INFORMATION CONTACT: Bill Bolger, Project Director, Paterson Great Falls National Historical Park National Park Service, 200 Chestnut Street, Philadelphia, PA 19106: 215-597-1649.

SUPPLEMENTARY INFORMATION: The Paterson Great Falls NHP Federal Advisory Commission was authorized by Congress and signed by the President on March 30, 2009 (Pub. L. 111-11, Title VII, Subtitle A, Section 7001, Subsection e) “to advise the Secretary in the development and implementation of the management plan.” The agendas for these meetings will be published by press release.

This meeting will be open to the public and time will be reserved for public comment. Oral comments will be summarized for the record. If individuals wish to have their comments recorded verbatim they must submit them in writing. Written comments and requests for agenda items may be submitted electronically to bill_bolger@nps.gov. Alternatively, comments and requests may be sent to: Bill Bolger, National Park Service, 200 Chestnut Street, Philadelphia, PA 19106. Before including your address, phone number, e-mail address, or other personal identifying information in your comment, you should be aware that your entire comment—including your personal identifying information—may be made publicly available at any time. While you can ask us in your comment to withhold your personal identifying information from public review, we cannot guarantee that we will be able to do so.

Dated: September 24, 2010.
William C. Bolger,
Project Director, Paterson Great Falls NHP and Designated Federal official for the Commission.

[FR Doc. 2010-25160 Filed 10-5-10; 8:45 am]

BILLING CODE 4310-52-P